Title 3—

The President

Proclamation 8366 of April 28, 2009

National Equal Pay Day, 2009

By the President of the United States of America

A Proclamation

Harriet Beecher Stowe helped galvanize the abolitionist movement with her groundbreaking literature. Frances Perkins advised President Franklin Delano Roosevelt and led the Department of Labor during one of its most challenging periods in history. Barbara McClintock helped unlock the mysteries of genetics and earned a Nobel Prize. These and countless other women have broken barriers and changed the course of our history, allowing women and men who followed them the opportunity to reach greater heights.

Despite these achievements, 46 years since the passage of the Equal Pay Act and 233 years since our Nation was established with the principle of equal justice under law, women across America continue to experience discrimination in the form of pay inequity every day. Women in the United States earn only 78 cents for every dollar a man earns, and today marks the inauspicious occasion when a woman’s earnings finally catch up with a man’s from the previous year. On National Equal Pay Day, we underscore the importance of this issue to all Americans.

If we wish to honor our Nation’s highest ideals, we must end wage discrimination. The Founders established a timeless framework of rights for the American people. Generation after generation has worked and sacrificed so that this framework might be applied equally to all Americans. To honor these Americans and stay true to our founding ideals, we must carry forward this tradition and breathe life into these principles by supporting equal pay for men and women.

Wage discrimination has a tangible and negative impact on women and families. When women receive less than their deserved compensation, they take home less for themselves and their loved ones. Utilities and groceries are more difficult to afford. Mortgages and rent bills are harder to pay. Children’s higher education is less financially feasible. In later years of life, the retirement that many women have worked so hard for—and have earned—is not possible. This problem is particularly dire for women who are single and the sole supporters of their families. Women should not and need not endure these consequences.

My Administration is working to advance pay equity in the United States. The first bill I signed into law as President, the Lilly Ledbetter Fair Pay Act of 2009, allows more women to challenge pay discrimination by extending the timeline within which complaints can be filed. This law advances the struggle for equal pay, but it is only an initial step. To continue this progress, I issued an Executive Order establishing the White House Council on Women and Girls. This high-level body, composed of Cabinet members and heads of sub-Cabinet agencies, is charged with advancing the rights and needs of women, including equal pay.

Still, Government can only advance this issue so far. The collective action of businesses, community organizations, and individuals is necessary to ensure that every woman receives just treatment and compensation. We Americans must come together to ensure equal pay for both women and men by reminding ourselves of the basic principles that underlie our Nation’s strength and unity, understanding the unnecessary sacrifices that pay inequity causes, and recalling the countless women leaders who have proven what women can achieve.

NOW, THEREFORE, I, BARACK OBAMA, President of the United States of America, by virtue of the authority vested in me by the Constitution and the laws of the United States, do hereby proclaim April 28, 2009, as National Equal Pay Day. I call upon American men and women, and all employers, to acknowledge the injustice of wage discrimination and to commit themselves to equal pay for equal work.

IN WITNESS WHEREOF, I have hereunto set my hand this twenty-eighth day of April, in the year of our Lord two thousand nine, and of the Independence of the United States of America the two hundred and thirty-third.

[FR Doc. E9-10270

Filed 4-30-09; 11:15 am]

Billing code 3195-W9-P